DEPARTMENT OF ENERGY

Federal Energy Regulatory Commission

Combined Notice of Filings

Take notice that the Commission has received the following Natural Gas Pipeline Rate and Refund Report filings:

Filings Instituting Proceedings

Docket Number: PR19-54-000.

Applicants: Impulsora Pipeline, LLC.

Description: Tariff filing per 284.123(b),(e)/: Baseline SOC to be effective 3/5/2019.

Filed Date: 4/4/19.

Accession Number: 201904045037.

Comments/Protests Due: 5 p.m. ET 4/25/19.

Docket Number: PR19-55-000.

Applicants: Columbia Gas of Ohio, Inc.

Description: Tariff filing per 284.123(b),(e)/: COH Rates effective April 1 2019 to be effective 4/1/2019.

Filed Date: 4/4/19.

Accession Number: 201904045141.

Comments/Protests Due: 5 p.m. ET 4/25/19.

Docket Numbers: RP19-1059-001.

Applicants: Texas Gas Transmission, LLC.

Description: Tariff Amendment: Amendment to RP19-1059-000 to be effective 4/1/2019.

Filed Date: 4/3/19.

Accession Number: 20190403-5024.

Comments Due: 5 p.m. ET 4/15/19.

Docket Numbers: RP19-992-001.

Applicants: Texas Gas Transmission, LLC.

Description: Tariff Amendment: Amendment to RP19-992-000 to be effective 4/1/2019.

Filed Date: 4/3/19.

Accession Number: 20190403-5025.

Comments Due: 5 p.m. ET 4/15/19.

Docket Numbers: RP19-1069-001.

Applicants: Gulf South Pipeline Company, LP.

Description: Tariff Amendment: Amendment to Docket No. RP19-1069-000 to be effective 4/1/2019.

Filed Date: 4/4/19.

Accession Number: 20190404-5012.

Comments Due: 5 p.m. ET 4/16/19.

Docket Numbers: RP19-1108-000.

Applicants: Wyckoff Gas Storage Company, LLC.

Description: Compliance filing Order 587-Y Compliance to be effective 8/1/2019.

Filed Date: 4/4/19.

Accession Number: 20190404-5062.

Comments Due: 5 p.m. ET 4/16/19.

Docket Numbers: RP19-1110-000.

Applicants: Tres Palacios Gas Storage LLC.

Description: § 4(d) Rate Filing: Tres Palacios Gas Storage LLC—Filing of Tariff Modifications to be effective 5/5/2019.

Filed Date: 4/4/19.

Accession Number: 20190404-5077.

Comments Due: 5 p.m. ET 4/16/19.

Docket Numbers: RP19-1111-000.

Applicants: Tennessee Gas Pipeline Company, L.L.C.

Description: § 4(d) Rate Filing: Spire MS SP347466 to be effective 4/4/2019.

Filed Date: 4/4/19.

Accession Number: 20190404-5210.

Comments Due: 5 p.m. ET 4/16/19.

Docket Numbers: RP19-351-002.

Applicants: Tennessee Gas Pipeline Company, L.L.C.

Description: Compliance filing 2019 Settlement RP19-351 to be effective 11/1/2019.

Filed Date: 4/4/19.

Accession Number: 20190404-5165.

Comments Due: 5 p.m. ET 4/16/19.

Docket Numbers: RP19-414-001.

Applicants: Northern Border Pipeline Company.

Description: Compliance filing Northern Border Amended Settlement Filing.

Filed Date: 4/4/19.

Accession Number: 20190404-5104.

Comments Due: 5 p.m. ET 4/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2019.
Nathaniel J. Davis, Sr.,
Deputy Secretary.

[FR Doc. 2019-07371 Filed 4-12-19; 8:45 am]

BILLING CODE 6717-01-P